DEPARTMENT OF HEALTH AND HUMAN SERVICES

Centers for Disease Control and Prevention

[CDC-2015-0005, Docket Number NIOSH-281]

Future Directions for the Surveillance of Agricultural Injuries; Public Meeting; Request for Comments

AGENCY: National Institute for Occupational Safety and Health (NIOSH) of the Centers for Disease Control and Prevention (CDC), Department of Health and Human Services (HHS).

ACTION: Notice of public meeting and request for comment.

SUMMARY: The National Institute for Occupational Safety and Health of the Centers for Disease Control and Prevention announces a public meeting and an opportunity to comment on future directions for the surveillance of injuries within the agricultural production industry. To view the notice and related materials visit http://www.regulations.gov and enter CDC-2015-0005 in the search field and click “Search.”

Public comment period: Comments must be received May 27, 2015.

Table of Contents

• DATE

• FOR FURTHER INFORMATION CONTACT

• SUPPLEMENTARY INFORMATION

I. Background

II. Public Meeting

III. Written Comments

DATES: A public meeting will be held on March 30, 2015, 1:00 p.m.-5:00 p.m. Eastern Time, or after the last public commenter has spoken, whichever occurs first. The public meeting will be held as a web-based conference only available by remote access.

FOR FURTHER INFORMATION CONTACT: Kitty Hendricks, Division of Safety Research, 1095 Willowdale Road, MS 1808, Morgantown, West Virginia 26505-2888, (304) 285-5916 (not a toll free number) or khendricks@cdc.gov.

SUPPLEMENTARY INFORMATION:

I. Background: NIOSH began a coordinated program in 1990 to address safety and health issues for workers and families in the US agricultural production industry. In support of this program, NIOSH established an ongoing, national-level surveillance system to monitor injuries to hired farm workers, farmers, and farm family members. Data for the injury surveillance system are primarily collected through surveys funded by NIOSH and conducted by the US Department of Agriculture's National Agricultural Statistics Service (USDA-NASS) and the US Department of Labor (DOL). These surveillance data are used by NIOSH and others to estimate injuries and injury rates and identify safety hazards that increase injury risk.

Surveillance data have also been used to show that the US agricultural production industry has changed. Over the past quarter century, both the size of the workforce and the number of injuries have declined. To maintain statistically stable injury estimates with the current approach of national-level surveys, sample sizes would need to be increased. As a result, this approach has become more resource-intensive and is no longer tenable for NIOSH.

Beginning in 2015, NIOSH will not reestablish interagency agreements with USDA-NASS and DOL to collect survey data for the agricultural injury surveillance system. This change in surveillance approach presents an opportunity for NIOSH to receive stakeholder input and rigorously examine future options for agricultural injury surveillance.

To identify and assess different options, NIOSH plans the following activities: Hold the public meeting announced in this notice to initiate a national conversation regarding future agricultural injury surveillance; seek additional public comments through this docket on the most urgent priorities for injury surveillance in production agriculture; examine what NIOSH and agricultural injury stakeholders can do to meet the overall need for agricultural injury surveillance; support a comprehensive, independent assessment of recommendations resulting from a 2007 National Academy of Sciences (NAS) review and a 2012 follow-up independent panel review; continue to engage with interested parties as NIOSH plans its own future directions for agricultural injury surveillance; and seek input on the need for a follow-up public meeting in Fall 2015 to discuss NIOSH's future plans after having considered input received through the public meeting and public comment period.

NIOSH is especially interested in comments related to finding new ways of doing surveillance using smarter, more cost-effective approaches; shifting surveillance from national to regional or local approaches, in recognition of the diversity of agricultural types in different parts of the country; and examining roles that partners can take to address the need for smarter agricultural injury surveillance.

II. Public Meeting: NIOSH will hold a public meeting to allow for comments on future directions for surveillance of injuries within the agricultural production industry. The meeting is open to the public, limited only by the capacity of 100 connections to the Web based conference.

Confirm your attendance to this meeting by sending an email to mgoldcamp@cdc.gov by March 16, 2015. An email confirming registration will be sent from NIOSH and will include details needed to participate.

Requests to make presentations at the public meeting should be emailed to mgoldcamp@cdc.gov by March 16, 2015. All requests to present should contain the name, address, telephone number, and relevant business affiliations of the presenter. Presenters will be assigned a 10-minute slot on the agenda. Presenters who wish to use slides must email an electronic file in Microsoft PowerPoint format to mgoldcamp@cdc.gov by March 16, 2015. An email confirming the presentation request will be sent from NIOSH and will include details needed to present and an approximate start time for the presentation.

If a presenter is not in attendance when his/her presentation is scheduled to begin, the remaining presenters will be heard in order. After the last scheduled presenter is heard, those who missed their opportunity may be allowed to present, limited by time available.

Attendees who wish to speak, but did not submit a request for the opportunity to make a presentation, may be given this opportunity after the scheduled presenters are heard, at the discretion of the presiding officer and limited by time available.

The public meeting, including all presentations and slides, will be recorded, transcribed, and posted without change to http://www.regulations.gov, including any personal information provided.

III. Written Comments: You may submit comments, identified by CDC-2015-0005 and Docket Number NIOSH-281, by either of the following methods:

• Federal eRulemaking Portal: http://www.regulations.gov Follow the instructions for submitting comments.

• Mail: National Institute for Occupational Safety and Health, NIOSH Docket Office, 1090 Tusculum Avenue MS C-34, Cincinnati, Ohio 45226-1998.

All information received in response to this notice must include the agency name and docket number [CDC-2015-0005; NIOSH-281]. All relevant comments received will be posted without change to http://www.regulations.gov, including any personal information provided. All electronic comments should be formatted as Microsoft Word. All information received in response to this notice will also be available for public examination and copying at the NIOSH Docket Office, 1150 Tusculum Avenue, Room 155, Cincinnati, Ohio 45226-1998.

Dated: February 18, 2015.
John Howard,
Director, National Institute for Occupational Safety and Health, Centers for Disease Control and Prevention.

[FR Doc. 2015-03949 Filed 2-25-15; 8:45 am]

BILLING CODE 4163-19-P